COMMODITY FUTURES TRADING COMMISSION

Market Risk Advisory Committee

AGENCY: Commodity Futures Trading Commission.

ACTION: Notice of establishment of the Market Risk Advisory Committee.

SUMMARY: In accordance with the Federal Advisory Committee Act (FACA), 5 U.S.C. App. 2, the Commodity Futures Trading Commission (Commission) announces the establishment of the Market Risk Advisory Committee (MRAC). The Commission has determined that the establishment of MRAC is necessary and in the public's interest. No earlier than fifteen (15) days following the date of the publication of this notice, the MRAC Charter will be filed with the Commission, the Senate Committee on Agriculture, Nutrition and Forestry, the House Committee on Agriculture, the Library of Congress, and the General Services Administration's Committee Management Secretariat.

FOR FURTHER INFORMATION CONTACT: Heather C. Gottry, Commodity Futures Trading Commission, Three Lafayette Centre, 1155 21st Street NW., Washington, DC 20581; (202) 418-5774.

SUPPLEMENTARY INFORMATION: The MRAC's purpose will be to advise the Commission on matters of public concern to the Commission, clearinghouses, exchanges, intermediaries, market makers, and end-users regarding systemic issues that threaten the stability of the derivatives markets and other financial markets, and to assist the Commission in identifying and understanding the impact and implications of an evolving market structure and movement of risk across clearinghouses, intermediaries, market makers and end-users. The MRAC will also monitor and advise the Commission on the effects that developments in the structure of the derivatives markets have on the systemic issues that threaten the stability of the derivatives markers and other financial markets. Further, the MRAC will make recommendations to the Commission on how to improve market structure and mitigate risk to support the Commission's mission of ensuring the integrity of the derivatives markets and monitoring and managing systemic risk. The MRAC will be a continuing advisory committee with an initial two-year term that will automatically expire two years from the date of the charter filing, unless renewed prior to the expiration. MRAC is expected to have approximately twenty to twenty-five (20-25) members, including the Chair, with a high-level of expertise and experience in the derivatives and financial markets and the Commission's regulation of such markets, including from a historical perspective. Membership in the MRAC is limited to the individuals appointed and is non-transferrable. No person who is a Federally-registered lobbyist may serve on the MRAC. MRAC members will not receive compensation or travel reimbursements from the Commission.

Dated: May 1, 2014.
Melissa D. Jurgens,
Secretary of the Commission.

[FR Doc. 2014-10325 Filed 5-5-14; 8:45 am]

BILLING CODE 6351-01-P